NUCLEAR REGULATORY COMMISSION

[Docket Nos. 50-277 and 50-278; NRC-2020-0061]

Exelon Generation Company, LLC and PSEG Nuclear, LLC Peach Bottom Atomic Power Station, Units 2 and 3

AGENCY: Nuclear Regulatory Commission.

ACTION: Subsequent renewed licenses and record of decision; issuance.

SUMMARY: The U.S. Nuclear Regulatory Commission (NRC) has issued Subsequent Renewed Facility Operating Licenses Nos. DPR-44 and DPR-56 to Exelon Generation Company, LLC and PSEG Nuclear, LLC (Exelon, PSEG, or the licensees), for Peach Bottom Atomic Power Station, Units 2 and 3, respectively. In addition, the NRC has prepared a record of decision (ROD) that supports the NRC's decision to issue Subsequent Renewed Facility Operating License Nos. DPR-44 and DPR-56.

DATES: The Subsequent Renewed Facility Operating Licenses Nos. DPR-44 and DPR-56 were issued on March 5, 2020.

ADDRESSES: Please refer to Docket ID NRC-2020-0061 when contacting the NRC about the availability of information regarding this document. You may obtain publicly-available information related to this document using any of the following methods:

• Federal Rulemaking Website: Go to https://www.regulations.gov and search for Docket ID NRC-2020-0061. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may access publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Bennett Brady, Office of Nuclear Reactor Regulation, U.S. Nuclear Regulatory Commission, Washington, DC 20555-0001; telephone: 301-415-2981, email: Bennett.Brady@nrc.gov.

SUPPLEMENTARY INFORMATION: Notice is hereby given that the NRC has issued Subsequent Renewed Facility Operating Licenses Nos. DPR-44 and DPR-56 to Exelon Generation Company, LLC and PSEG Nuclear, LLC (Exelon, PSEG, or the licensees), for Peach Bottom Atomic Power Station, Units 2 and 3, respectively. Exelon is the operator of the facility. Subsequent Renewed Facility Operating Licenses Nos. DPR-44 and DPR-56 authorize operation of Unit 2 and Unit 3, respectively, by Exelon at reactor core power levels not in excess of 4,016 megawatts thermal for each unit, in accordance with the provisions of the Peach Bottom, Units 2 and 3 renewed licenses and technical specifications. Notice is also given that the ROD that supports the NRC's decision to issue Subsequent Renewed Facility Operating Licenses Nos. DPR-44 and DPR-56 is available in ADAMS under Accession No. ML20024G429.

As discussed in the ROD and the final supplemental environmental impact statement (FSEIS) for Peach Bottom, Units 2 and 3, Supplement 10, Second Renewal, to NUREG-1437, “Generic Environmental Impact Statement for License Renewal of Nuclear Plants, Regarding Subseqent License Renewal for Peach Bottom Atomic Power Station, Unit 2 and Unit 3, Final Report,” dated January 2020 (ADAMS Accession No. ML20023A937), the NRC staff considered a range of reasonable alternatives that included a new nuclear power alternative, a supercritical pulverized coal alternative, a natural gas combined-cycle alternative, and a combination alternative of natural gas combined-cycle, wind, solar, and purchased power. The FSEIS documents the environmental review, including the determination that the adverse environmental impacts of subsequent license renewal for Peach Bottom Units 2 and 3 are not so great that preserving the option of subsequent license renewal for energy planning decisionmakers would be unreasonable. In addition to the NRC staff's independent environmental review, the FSEIS conclusion is based on (1) the analysis and findings in the Generic Environmental Impact Statement for License Renewal of Nuclear Plants, (2) information provided in the environmental report submitted by Exelon, and (3) consultation with Federal, State, local, and Tribal agencies.

Peach Bottom Units 2 and 3 are single-cycle, forced-circulation boiling water reactors located in Peach Bottom Township, near Delta, York County, Pennsylvania. The application for the subsquent renewed licenses, “Subsequent License Renewal Application, Peach Bottom Atomic Power Station Units 2 and 3,” dated July 10, 2018 (ADAMS Package Accession No. ML18193A689), as supplemented by letters dated through October 9, 2019, complies with the standards and requirements of the Atomic Energy Act of 1954, as amended (the Act), and the NRC's regulations. As required by the Act and NRC regulations in chapter 1 of title 10 of the Code of Federal Regulations (10 CFR), the NRC has made appropriate findings, which are set forth in the licenses.

A public notice of the proposed issuance of the renewed licenses and an opportunity for a hearing was published in the Federal Register on September 6, 2018 (83 FR 45285). An NRC Atomic Safety and Licensing Board denied an intervention petition and terminated the adjudicatory proceeding. An appeal and motions related to a request to file a new contention are pending before the Commission. Because the termination of the proceeding has not been stayed pending Commission review, and the NRC staff has determined that issuance of the subsequent renewed licenses prior to Commission action on the pending appeal and motions would not foreclose or prejudice any Commission action, issuance of the subsequent renewed licenses is permissible.

For further details with respect to this action, see: (1) Exelon Generation Company's subsequent license renewal application for Peach Bottom Units 2 and 3, dated July 10, 2018 (ADAMS Package Accession No. ML18193A689), as supplemented by letters dated through October 9, 2019; (2) the NRC's safety evaluation report, dated Februrary 2020 (ADAMS Package Accession No. ML20044D902); (3) the NRC's final environmental impact statement (NUREG-1437, Supplement 10, Second Renewal) for Peach Bottom Units 2 and 3, dated January 2020 (ADAMS Accession No. ML20023A937); and (4) the NRC's ROD (ADAMS Accession No. ML20024G429).

Dated at Rockville, Maryland, this 6th day of March, 2020.
For the Nuclear Regulatory Commission.
Anna H. Bradford, Director,
Division of New and Renewed Licenses, Office of Nuclear Reactor Regulation.

[FR Doc. 2020-04941 Filed 3-10-20; 8:45 am]

BILLING CODE 7590-01-P